DEPARTMENT OF ENERGY

Federal Energy Regulatory Commission

Combined Notice of Filings #1

Take notice that the Commission received the following electric rate filings:

Docket Numbers: ER10-2527-005; ER15-356-008; ER15-357-008; ER10-2532-011; ER10-1595-009; ER10-2533-005; ER10-1598-009; ER10-2535-006; ER10-1616-009; ER10-1618-009; ER18-1821-001.

Applicants: Allegheny Ridge Wind Farm, LLC, Chief Conemaugh Power, LLC, Chief Keystone Power, LLC, Crescent Ridge LLC, Crete Energy Venture, LLC, GSG, LLC, Lincoln Generating Facility, LLC, Mendota Hills, LLC, New Covert Generating Company, LLC, Rolling Hills Generating, L.L.C., Walleye Power, LLC.

Description: Notice of Non-Material Change in Status of Allegheny Ridge Wind Farm, LLC, et. al.

Filed Date: 8/20/18.

Accession Number: 20180820-5085.

Comments Due: 5 p.m. ET 9/10/18.

Docket Numbers: ER15-936-003; ER15-960-003; ER17-1531-001; ER10-1514-003; ER13-343-009; ER13-342-013; ER16-700-002; ER16-701-002.

Applicants: Benson Power, LLC, CPV Biomass Holdings, LLC, CPV Fairview, LLC, CPV Keenan II Renewable Energy Company, LLC, CPV Maryland, LLC, CPV Shore, LLC, CPV Towantic, LLC, CPV Valley, LLC.

Description: Notice of Change in Status of Benson Power, LLC, et al.

Filed Date: 8/17/18.

Accession Number: 20180817-5175.

Comments Due: 5 p.m. ET 9/7/18.

Docket Numbers: ER18-2118-000; ER18-2003-000; ER18-2182-000; ER18-2066-000; ER18-2067-000; ER18-1981-000; ER18-2032-000.

Applicants: Armadillo Flats Wind Project, LLC, Lorenzo Wind, LLC, Minco IV & V Interconnection, LLC, Minco Wind IV, LLC, Minco Wind V, LLC, Pratt Wind, LLC, Wildcat Ranch Wind Project, LLC.

Description: Second Amendment to July 31, 2018 et al. Armadillo Flats Wind Project, LLC tariff filing, et al.

Filed Date: 8/14/18.

Accession Number: 20180814-5151.

Comments Due: 5 p.m. ET 9/4/18.

Docket Numbers: ER18-2246-000.

Applicants: Heartland Divide Wind Project, LLC.

Description: Baseline eTariff Filing: Heartland Divide Wind Project, LLC Application for Market-Based Rate Authority to be effective 10/16/2018.

Filed Date: 8/17/18.

Accession Number: 20180817-5152.

Comments Due: 5 p.m. ET 9/7/18.

Docket Numbers: ER18-2247-000.

Applicants: Southwest Power Pool, Inc.

Description: § 205(d) Rate Filing: 3473 Upstream Wind Energy and Westar Energy Meter Agent Agr to be effective 8/1/2018.

Filed Date: 8/20/18.

Accession Number: 20180820-5001.

Comments Due: 5 p.m. ET 9/10/18.

Docket Numbers: ER18-2248-000.

Applicants: Blue Pilot Energy, LLC.

Description: Notice of cancellation of MBR Tariff Blue Pilot Energy, LLC.

Filed Date: 8/17/18.

Accession Number: 20180817-5178.

Comments Due: 5 p.m. ET 9/7/18.

Docket Numbers: ER18-2250-000.

Applicants: PJM Interconnection, L.L.C.

Description: Compliance filing: Notice of Cancellation of WMPA/SA No. 2214; Queue No. U3-032 to be effective N/A.

Filed Date: 8/20/18.

Accession Number: 20180820-5068.

Comments Due: 5 p.m. ET 9/10/18.

Docket Numbers: ER18-2251-000.

Applicants: Midcontinent Independent System Operator, Inc.

Description: § 205(d) Rate Filing: 2018-08-20_SA 3156 ATC-CEC Project Commitment Agreement (Carmeuse) to be effective 10/20/2018.

Filed Date: 8/20/18.

Accession Number: 20180820-5072.

Comments Due: 5 p.m. ET 9/10/18.

Docket Numbers: ER18-2252-000.

Applicants: MC Project Company LLC.

Description: Baseline eTariff Filing: Market-Based Rate Authorization and Request for Waivers & Blanket Approvals to be effective 8/21/2018.

Filed Date: 8/20/18.

Accession Number: 20180820-5074.

Comments Due: 5 p.m. ET 9/10/18.

Docket Numbers: ER18-2253-000.

Applicants: Martins Creek, LLC.

Description: § 205(d) Rate Filing: Reactive Service Rate Schedule Filings and Request for Waiver to be effective 12/31/9998.

Filed Date: 8/20/18.

Accession Number: 20180820-5077.

Comments Due: 5 p.m. ET 9/10/18.

Docket Numbers: ER18-2254-000.

Applicants: MC Project Company LLC.

Description: § 205(d) Rate Filing: Reactive Service Rate Schedule Filings and Request for Waiver to be effective 12/31/9998.

Filed Date: 8/20/18.

Accession Number: 20180820-5083.

Comments Due: 5 p.m. ET 9/10/18.

Docket Numbers: ER18-2255-000.

Applicants: Arizona Public Service Company.

Description: § 205(d) Rate Filing: Rate Schedule No. 265, Amendment No. 2—PV-Morgan Joint Participation to be effective 10/20/2018.

Filed Date: 8/20/18.

Accession Number: 20180820-5094.

Comments Due: 5 p.m. ET 9/10/18.

Take notice that the Commission received the following electric securities filings:

Docket Numbers: ES18-57-000.

Applicants: MDU Resources Group, Inc.

Description: Application for Authorization under Section 204 of the Federal Power Act of MDU Resources Group, Inc.

Filed Date: 8/17/18.

Accession Number: 20180817-5182.

Comments Due: 5 p.m. ET 9/7/18.

Docket Numbers: ES18-58-000.

Applicants: Baja California Power, Inc.

Description: Application for Authorization under Section 204 of the Federal Power Act of Baja California Power, Inc.

Filed Date: 8/20/18.

Accession Number: 20180820-5092.

Comments Due: 5 p.m. ET 9/10/18.

Take notice that the Commission received the following electric reliability filings

Docket Numbers: RD18-7-000.

Applicants: North American Electric Reliability Corporation.

Description: Petition of the North American Electric Reliability Corporation for Approval of Proposed Reliability Standard BAL-002-3.

Filed Date: 8/17/18.

Accession Number: 20180817-5177.

Comments Due: 5 p.m. ET 9/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2018.
Nathaniel J. Davis, Sr.,
Deputy Secretary.

[FR Doc. 2018-18326 Filed 8-23-18; 8:45 am]

BILLING CODE 6717-01-P